DEPARTMENT OF AGRICULTURE

Forest Service

Supplement to the Draft Environmental Impact Statement for the Drew Creek, Diamond Rock and Divide Cattle Allotments, Tiller Ranger District, Umpqua National Forest, Douglas County, OR

AGENCY: Forest Service, USDA

ACTION: Notice of intent to supplement a draft environmental impact statement.

SUMMARY: The USDA Forest Service will prepare a Supplement to the Draft Environmental Impact Statement (EIS) for the Drew Creek, Diamond Rock and Divide Cattle Allotments. The draft EIS for the Drew Creek, Diamond Rock and Divide Cattle Allotments was released by former Forest Supervisor Don Ostby in May 2001 (Notice of Availability, May 25, 2001). Based on comments received on the draft EIS, Forest Supervisor James H. Caplan decided to prepare a supplement pursuant to 40 CFR 1502.9(c)(1)(ii). This supplement will provide additional information, as well as another alternative, to the existing analysis.

ADDRESSES: Send written comments and suggestions concerning the scope of this supplement to Jill A. Dufour, District Range, Tiller Ranger District, 27812 Tiller-Trail Highway, Tiller, Oregon 97484.

FOR FURTHER INFORMATION CONTACT: Wes Yamamoto, Resource Assistant, Tiller Ranger District, 27812 Tiller-Trail Highway, Tiller, Oregon 97484, or (541) 825-3201.

RESPONSIBLE OFFICIAL: Forest Supervisor James A. Caplan is the responsible official for this EIS. Mr. Caplan may be contacted at Umpqua National Forest, P.O. Box 1008, Roseburg, OR 97470.

SUPPLEMENTARY INFORMATION: The purpose of the supplement is to provide an additional alternative, which was submitted by the South Umpqua Grazing Association. It also will provide additional information on the social and economic environments that would be affected by the proposal. The supplement will be prepared and circulated in the same manner as the draft EIS (40 CFR 1502.9). Comments received on the supplement will be considered in the preparation of the Final Environmental Impact Statement (FEIS). The supplement to the draft EIS is expected to be available for public review and comment in August 2002. The comment period on the supplement will be 45 days from the date the Environmental Protection Agency's notice of availability appears in the Federal Register.

The Forest Service believes it is important to give reviewers notice of several court rulings related to public participation in the environmental review process. First, reviewers of supplemental draft EIS must structure their participation in the environmental review of the proposal so that it is meaningful and alerts an agency to the reviewer's position and contentions. Vermont Yankee Nuclear Power Corp. v. NRDC, 435 U.S. 519, 553 (1978). Also, environmental objection that could be raised at the draft EIS stage, but are not raised until the completion of the final EIS, may be waived or dismissed by the courts. City of Angoon v. Hodel, 803 F. 2d 1016, 1002 (9th Cir, 1986), and Wisconsin Heritages, Inc. v. Harris, 490 F. Sup. 1334, 1338 (E.D. Wis. 1980). Because of these court rulings, it is important that those interested in this proposed action participate by the close of the 45-day comment period so substantive comments and objections are made available to the Forest Service at a time when it can meaningfully consider them and respond to them in the final EIS.

To assist the Forest Service in identifying and considering issues and concerns on the proposed action, comments on the supplemental draft EIS should be as specific as possible. It is also helpful if comments refer to specific pages or chapters of the supplemental draft EIS. Comments may also address the adequacy of the supplemental draft EIS or the merits of the alternatives formulated and discussed in the statement. (Reviewers may wish to refer to the Council of Environmental Quality Regulations for implementing the procedural provisions of the National Environmental Policy Act at 40 CFR 1503.3 in addressing these points.)

In the final EIS, the Forest Service is required to respond to substantive comments and responses received during the comment period that pertain to the environmental consequences discussed in the supplemental draft EIS, as well as applicable laws, regulations and policies considered, in making a decision regarding the proposal. The final EIS is scheduled to be completed in November 2002. The Responsible Official is James A. Caplan, Forest Supervisor for the Umpqua National Forest. The Responsible Official will document the decision and rationale for the decision in the Record of Decision. That decision is subject to appeal under 36 CFR Part 215.

Dated: July 2, 2002.
James A. Caplan,
Forest Supervisor, Umpqua National Forest.

[FR Doc. 02-17789 Filed 7-15-02; 8:45 am]

BILLING CODE 3410-11-M